DEPARTMENT OF THE INTERIOR

Fish and Wildlife Service

Fiscal Year 2004 Private Stewardship Grants Program; Revision of Eligibility Requirements, and Proposal Due Date Extension

AGENCY: Fish and Wildlife Service, Interior.

ACTION: Notice; revision of eligibility requirements, and extension of the due date.

SUMMARY: We, the U.S. Fish and Wildlife Service (Service), issued a Federal Register notice on January 6, 2004 (69 FR 670), announcing the request for proposals for the fiscal year 2004 Private Stewardship Grants Program (PSGP). We are now revising the eligibility requirements to clarify, and correctly notice, that projects on lands owned by conservation organizations are eligible for funding through the PSGP. We are also extending the due date for submission of project proposals for Federal assistance under the PSGP to March 31, 2004.

DATES: Project proposals must be received by the appropriate Regional Office (see Table 1 in SUPPLEMENTARY INFORMATION) no later than March 31, 2004.

ADDRESSES: For additional information, contact the Service's Regional Office that has the responsibility for the State or Territory in which the proposed project would occur. The contact information for each Regional Office is listed in Table 1 under SUPPLEMENTARY INFORMATION below. Information on the PSGP is also available from the Branch of State Grants, U.S. Fish and Wildlife Service, 4401 N. Fairfax Drive, Room 420, Arlington, VA 22203, or electronically at http://endangered.fws.gov/grants/private_stewardship.html, or by e-mail from Privatestewardship@fws.gov.

Send project proposals to the Service's Regional Office that has the responsibility for the State or Territory in which the proposed project would occur (see Table 1 under SUPPLEMENTARY INFORMATION).

FOR FURTHER INFORMATION CONTACT: The Program Contact in the appropriate Regional Office identified in Table 1 under SUPPLEMENTARY INFORMATION, or Don Morgan, Chief, Branch of State Grants (703/358-2061).

SUPPLEMENTARY INFORMATION:

Background

Congress appropriated $7.5 million from the Land and Water Conservation Fund in Fiscal Year 2004 for the PSGP. The PSGP provides grants and other assistance on a competitive basis to individuals and groups engaged in private, voluntary conservation efforts that benefit species listed or proposed as endangered or threatened under the Endangered Species Act of 1973, as amended (Act), candidate species, or other at-risk species on private lands within the United States.

On January 6, 2004, we published in the Federal Register (69 FR 670) a notice announcing the request for proposals for the fiscal year 2004 PSGP. In that notice, we advised potential applicants that a complete program announcement and request for proposals could be accessed by visiting Grants.gov (www.grants.gov). Within the complete program announcement and request for proposals (Notice of Availability of Federal Assistance), potential applicants were provided with a set of minimum eligibility criteria. One of the eligibility criteria could be read to exclude projects on lands owned by conservation organizations from eligibility for funding under the PSGP. We are now revising the eligibility requirements to clarify, and correctly notice, that projects on lands owned by conservation organizations are eligible for funding through the PSGP. Specifically, section III (Eligibility Information), part 3 (Other), item 2, is revised now to read as follows: “The project must be on land that is privately owned and must entail new or changed management that benefits the target species. That is, the projects we seek to support should reflect new starts and should not fund management efforts already in place or ongoing.”

The January 6, 2004, notice also stated that project proposals must be received by the appropriate Regional Office within 60 days of the notice. Due to the need to revise and clarify the eligibility criteria, and due to substantial interest by the public in participating in this program, we are now extending the due date for submission of project proposals for Federal assistance under the Private Stewardship Grants Program (PSGP) to March 31, 2004.

How To Apply for a PSGP Grant

A complete program announcement and request for proposals may be accessed by visiting Grants.gov (www.grants.gov). Grants.gov is the new single point of entry for posting Federal Government grant and other assistance opportunities. Potential applicants for the PSGP may access program overview information, the full text of the announcement, and the application package for this request for proposals by accessing Grants.gov and then using the FIND utility (“Find Grant Opportunities,” or http://fedgrants.gov/grants/servlet/SearchServlet/) to access this information. Potential applicants may use the FIND utility by searching for the PSGP either by entering the title “Private Stewardship Grants Program” or by using the PSGP's Catalog of Federal Domestic Assistance (CFDA) number of 15.632.

Table 1.—Where To Send Project Proposals and List of Regional Contacts
Service region | States or territory where the project will occur | Where to send your PSGP project proposal | Regional PSGP contact and phone number
Region 1 | Hawaii, Idaho, Oregon, Washington, American Samoa, Guam, and Commonwealth of the Northern Mariana Islands | Regional Director, U.S. Fish and Wildlife Service, Eastside Federal Complex, 911 NE. 11th Avenue, Portland, OR 97232-4181 | Heather Hollis (503/231-6241)
Region 1 | California and Nevada | Office Manager, U.S. Fish and Wildlife Service, Federal Building, 2800 Cottage Way, Room W-2606, Sacramento, CA 95825-1846 | Michael Fris (916/414-6464)
Region 2 | Arizona, New Mexico, Oklahoma, and Texas | Regional Director, U.S. Fish and Wildlife Service, 500 Gold Avenue, SW., Room 4012, Albuquerque, NM 87102 | Mike McCollum (817/277-1100)
Region 3 | Illinois, Indiana, Iowa, Michigan, Minnesota, Missouri, Ohio, and Wisconsin | Regional Director, U.S. Fish and Wildlife Service, Bishop Henry Whipple Federal Building, One Federal Drive, Fort Snelling, MN 55111-4056 | Peter Fasbender (612/713-5343)
Region 4 | Alabama, Arkansas, Florida, Georgia, Kentucky, Louisiana, Mississippi, North Carolina, South Carolina, Tennessee, Puerto Rico, and the U.S. Virgin Islands | Regional Director, U.S. Fish and Wildlife Service, 1875 Century Boulevard, Suite 200, Atlanta, GA 30345 | Mike Gantt (404/679-7081)
Region 5 | Connecticut, Delaware, District of Columbia, Maine, Maryland, Massachusetts, New Hampshire, New Jersey, New York, Pennsylvania, Rhode Island, Vermont, Virginia, and West Virginia | Regional Director, U.S. Fish and Wildlife Service, 300 Westgate Center Drive, Hadley, MA 01035-9589 | Diane Lynch (413/253-8628)
Region 6 | Colorado, Kansas, Montana, Nebraska, North Dakota, South Dakota, Utah, and Wyoming | Regional Director, U.S. Fish and Wildlife Service, P.O. Box 25486, Denver Federal Center, Denver, CO 80225-0486 | Pat Mehlhop (303/236-7400 ext. 225)
Region 7 | Alaska | Regional Director, U.S. Fish and Wildlife Service, 1011 East Tudor Road, Anchorage, AK 99503-6199 | Michael Roy (907/786-3925)

Authority: This notice is published under the authority of the Department of the Interior and Related Agencies Appropriations Act, 2004, H.R. 2691/Pub. L.108-108.

Dated: February 25, 2004.
Craig Manson,
Assistant Secretary for Fish and Wildlife and Parks.

[FR Doc. 04-4686 Filed 2-27-04; 12:01 pm]

BILLING CODE 4310-55-P